Title 3—

The President

Executive Order 13308 of June 20, 2003

Further Amendment to Executive Order 12580, as Amended, Superfund Implementation

By the authority vested in me as President by the Constitution and the laws of the United States of America, including section 115 of the Comprehensive Environmental Response, Compensation, and Liability Act of 1980, as amended (42 U.S.C. 9601 et seq.) (the “Act”), and section 301 of title 3, United States Code, Executive Order 12580 of January 23, 1987, is hereby amended as follows:

Section 1. In Section 1(b)(1), the phrase “Sections 105(a), (b), (c), and (g)” is revised to read “Sections 105(a), (b), (c), (g) and (h)”.

Sec. 2. In Section 5, a new subsection (f) and a new subsection (g) are added to read as follows:

“(f) The functions vested in the President by Section 107(o) and (p) of the Act are delegated to the heads of the Executive departments and agencies, to be exercised in consultation with the Administrator, with respect to releases or threatened releases where either the release is on or the sole source of the release is from any facility under the jurisdiction, custody, or control of those departments and agencies.

(g) Subject to subsection (f) of this Section, the functions vested in the President by Section 107(o) and (p) of the Act are delegated to the Administrator except that, with respect to determinations regarding natural resource restoration, the Administrator shall make such determinations in consultation with the appropriate Federal natural resource trustee.”

Sec. 3. New Sections 12, 13, and 14 are added to read as follows:

“Sec. 12. Brownfields.

(a) The functions vested in the President by Sections 101(39) and (41) and 104(k) of the Act are delegated to the Administrator.

(b) The functions vested in the President by Section 128(b)(1)(B)(ii) of the Act are delegated to the heads of the Executive departments and agencies, to be exercised in consultation with the Administrator, with respect to property subject to their jurisdiction, custody, or control.

(c) The functions vested in the President by Section 128(b)(1)(E) of the Act are delegated to the heads of Executive departments and agencies in cases where they have acted under subsection (b) of this Section.

(d) Subject to subsections (b) and (c) of this Section, the functions vested in the President by Section 128 of the Act are delegated to the Administrator.

“Sec. 13. Preservation of Authorities.

Nothing in this order shall be construed to impair or otherwise affect the functions of the Director of the Office of Management and Budget relating to budget, administrative, or legislative proposals.

“Sec. 14. General Provision.

This order is intended only to improve the internal management of the Federal Government and is not intended to, and does not, create any right or benefit, substantive or procedural, enforceable at law or equity by a party against the United States, its departments, agencies, instrumentalities, or entities, its officers or employees, or any other person.”

B

THE WHITE HOUSE,

June 20, 2003.

[FR Doc. 03-16102

Filed 6-23-03; 8:45 am]

Billing code 3195-01-P